BUREAU OF CONSUMER FINANCIAL PROTECTION

Proposed Guidelines for Ensuring and Maximizing the Quality, Objectivity, Utility, and Integrity of Information Disseminated by the Bureau of Consumer Financial Protection

AGENCY: Bureau of Consumer Financial Protection.

ACTION: Notice of availability; request for comment.

SUMMARY: This document announces the availability of the Bureau of Consumer Financial Protection (Bureau or CFPB's) guidelines to ensure and maximize the quality, objectivity, utility, and integrity of information disseminated by the Bureau. These guidelines also detail the administrative mechanisms developed by the Bureau to allow affected persons to seek and obtain appropriate correction of information maintained and disseminated by the Bureau that does not comply with the Office of Management and Budget (OMB) or the Bureau guidelines. This notice also provides an opportunity for public comment on the Bureau's guidelines.

DATES: To be considered, comments must be received by September 4, 2012.

ADDRESSES: You may submit comments, identified by the title of this notice, by any of the following methods:

• Electronic: CFPB_IQ_Submissions@cfpb.gov.

• Mail/Hand Delivery/Courier: Monica Jackson, Consumer Financial Protection Bureau, 1700 G Street NW., Washington, DC 20552.

Comments will be available for public inspection and copying at 1700 G Street NW., Washington, DC 20552, on official business days between the hours of 10 a.m. and 5 p.m. Eastern Time. You can make an appointment to inspect the documents by telephoning (202) 435-7275. All comments, including attachments and other supporting materials, will become part of the public record and subject to public disclosure. Sensitive personal information, such as account numbers or social security numbers, should not be included. Comments will not be edited to remove any identifying or contact information.

FOR FURTHER INFORMATION CONTACT: Requests for additional information should be directed to Christopher Willey, Chief Information Officer, Consumer Financial Protection Bureau, (202) 435-7741.

SUPPLEMENTARY INFORMATION: This notice and the Bureau's guidelines are required by section 515 of the Treasury and General Government Appropriations Act for FY 2001 (Pub. L. 106-554) and the OMB Guidelines published on January 3, 2002, at 67 FR 369-378 (reprinted February 5, 2002, at 67 FR 5365). The Bureau's draft report is available for public inspection at the Bureau's Web site, www.consumerfinance.gov.

Dated: July 19, 2012.
Richard Cordray,
Director, Bureau of Consumer Financial Protection.

[FR Doc. 2012-18828 Filed 8-1-12; 8:45 am]

BILLING CODE 4810-AM-P